DEPARTMENT OF THE TREASURY

Internal Revenue Service

26 CFR Part 301

[TD 9443]

RIN 1545-BG16

Postponement of Certain Tax-Related Deadlines by Reason of a Federally Declared Disaster or Terroristic or Military Action; Correction

AGENCY: Internal Revenue Service (IRS), Treasury.

ACTION: Correcting amendments.

SUMMARY: This document contains corrections to final regulations (TD 9443) that were published in the Federal Register on Thursday, January 15, 2009 (74 FR 2370) relating to postponement of certain tax-related deadlines either due to service in a combat zone or due to a Federally declared disaster. The regulations reflect changes in the law made by the Victims of Terrorism Tax Relief Act of 2001, the Tax Extenders and Alternative Minimum Tax Relief Act of 2008 (TEAMTRA), and current IRS practice.

DATES: This correction is effective on December 17, 2009, and is applicable on January 15, 2010.

FOR FURTHER INFORMATION CONTACT: Mary Ellen Keys, (202) 622-4570 (not a toll-free number).

SUPPLEMENTARY INFORMATION:

Background

The final regulations (TD 9443) that are the subject of this document are under section 7508A of the Internal Revenue Code.

Need for Correction

As published, the final regulations (TD 9443) contain errors that may prove to be misleading and are in need of clarification.

List of Subjects in 26 CFR Part 301

Employment taxes, Estate taxes, Excise taxes, Gift taxes, Income taxes, Penalties, Reporting and recordkeeping requirements.

Correction of Publication

Accordingly, 26 CFR part 301 is corrected by making the following correcting amendments:

PART 301—PROCEDURE AND ADMINISTRATION

Paragraph 1. The authority citation for part 301 continues to read in part as follows:

Authority: 26 U.S.C. 7805 * * *

Par. 2. Section 301.7508A-1(f) is amended by removing the existing Example 8, and redesignating Example 9 as Example 8.

LaNita Van Dyke,
Chief, Publications and Regulations Branch, Legal Processing Division, Associate Chief Counsel, (Procedure and Administration).

[FR Doc. E9-29978 Filed 12-16-09; 8:45 am]

BILLING CODE 4830-01-P